DEPARTMENT OF EDUCATION

[CFDA No. 84.282B and 84.282C]

Charter Schools Program (CSP)

AGENCY: Office of Innovation and Improvement, Department of Education.

ACTION: Correction; Notice inviting applications for new awards for fiscal year (FY) 2007.

SUMMARY: On June 20, 2007, we published in the Federal Register (72 FR 33986) a notice inviting applications for new awards for two fiscal year (FY) 2007 competitions under the Charter Schools Program (CFDA 84.282B and CFDA 84.282C). That notice incorrectly included Alaska, Missouri, and New Hampshire in the list of States that currently have approved applications under the CSP. Non-State educational agency (Non-SEA) eligible applicants in States that currently have approved applications under the CSP are ineligible to apply under these competitions and must contact the SEA for information related to the State's CSP subgrant competition. Because Alaska, Missouri, and New Hampshire do not currently have approved applications under the CSP, non-SEA eligible applicants from these three states are, in fact, eligible to apply directly to the Department for CSP grants under these competitions.

For these reasons, we are removing Alaska, Missouri, and New Hampshire from the list of States that currently have approved applications under the CSP. The Note on page 33986, in the third column, under III. Eligibility Information, 1. Eligible Applicants: Planning and Initial Implementation (CFDA No. 84.282B) is corrected to read as follows:

Note: Eligible applicant is defined in section 5210(3) of the ESEA. The following States currently have approved applications under the CSP: Arkansas, California, Colorado, Connecticut, Delaware, District of Columbia, Florida, Georgia, Idaho, Illinois, Indiana, Kansas, Louisiana, Maryland, Massachusetts, Michigan, Minnesota, Nevada, New Jersey, New Mexico, New York, Ohio, Oregon, Pennsylvania, South Carolina, Tennessee, Texas, Utah, and Wisconsin. In these States, non-SEA eligible applicants interested in participating in the CSP should contact the SEA for information related to the State's CSP subgrant competition.

FOR FURTHER INFORMATION CONTACT: Erin Pfeltz, U.S. Department of Education, 400 Maryland Avenue, SW., room 4W255, Washington, DC 20202-5970. Telephone: (202) 205-3525 or by e-mail: erin.pfeltz@ed.gov.

If you use a telecommunications device for the deaf (TDD), call the Federal Relay Service (FRS), toll free, at 1-800-877-8339.

Individuals with disabilities can obtain this document and a copy of the application package in an alternative format (e.g., Braille, large print, audiotape, or computer diskette) on request to the program contact person listed in this section.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 25, 2007.
Morgan S. Brown,
Assistant Deputy Secretary for Innovation and Improvement.

[FR Doc. E7-12544 Filed 6-27-07; 8:45 am]

BILLING CODE 4000-01-P